GENERAL SERVICES ADMINISTRATION

[Notice-MA-2019-07; Docket No. 2019-0002; Sequence No. 19]

Maximum Per Diem Reimbursement Rates for the Continental United States (CONUS)

AGENCY: Office of Government-wide Policy (OGP), General Services Administration (GSA).

ACTION: Notice of GSA Per Diem Bulletin FTR 20-01, Fiscal Year (FY) 2020 CONUS per diem reimbursement rates.

SUMMARY: The GSA Fiscal Year FY 2020 per diem reimbursement rates review has resulted in lodging and meal allowance changes for certain locations within CONUS to provide for reimbursement of Federal employees' subsistence expenses while on official travel.

DATES: Applicability Date: This notice applies to travel performed on or after October 1, 2019, through September 30, 2020.

FOR FURTHER INFORMATION CONTACT: For clarification of content, contact Ms. Jill Denning, Program Analyst, Office of Government-wide Policy, Office of Asset and Transportation Management, at 202-208-7642, or by email at travelpolicy@gsa.gov. Please cite Notice of GSA Per Diem Bulletin FTR 20-01.

SUPPLEMENTARY INFORMATION:

Background

The CONUS per diem reimbursement rates prescribed in Bulletin 20-01 may be found at www.gsa.gov/perdiem. GSA bases the maximum lodging allowance rates on the average daily rate that the lodging industry reports to an independent organization. If a maximum lodging allowance rate and/or a meals and incidental expenses (M&IE) per diem reimbursement rate is insufficient to meet necessary expenses in any given location, Federal executive agencies can request that GSA review that location. Please review questions six and seven of GSA's per diem Frequently Asked Questions page at www.gsa.gov/perdiem for more information on the special review process. In addition, the Federal Travel Regulation (FTR) allows for actual expense reimbursement as provided in §§ 301-11.300 through 301-11.306.

For FY 2020, one new non-standard area (NSA) location was added for Boise, Idaho (Ada County). In addition, Park County, Montana was added to the Big Sky, Montana NSA area. In Montana, Missoula and Flathead Counties were separated into their own NSAs instead of a combined NSA. The standard CONUS lodging rate will increase from $94 to $96. The M&IE reimbursement rate tiers were unchanged for FY 2020. The standard CONUS M&IE rate remains at $55, and the M&IE NSA tiers remain at $56-$76.

GSA issues and publishes the CONUS per diem rates, formerly published in Appendix A to 41 CFR Chapter 301, solely on the internet at www.gsa.gov/perdiem. GSA also has removed and now solely publishes the M&IE deduction table from Appendix B to 41 CFR Chapter 301, which is used when employees are required to deduct meals from their M&IE reimbursement pursuant to FTR § 301-11.18, at www.gsa.gov/mie. This process, implemented in 2003, for per diem reimbursement rates and in 2015 (internet publication) and 2018 (removal from the FTR) for the M&IE deduction table, ensures more timely changes in per diem reimbursement rates established by GSA for Federal employees on official travel within CONUS.

Notices published periodically in the Federal Register now constitute the only notification of revisions in CONUS per diem reimbursement rates to agencies other than the changes posted on the GSA website.

Jessica Salmoiraghi,
Associate Administrator, Office of Government-wide Policy.

[FR Doc. 2019-17416 Filed 8-13-19; 8:45 am]

BILLING CODE 6820-14-P